DEPARTMENT OF DEFENSE

Department of the Air Force

[Docket ID USAF-2009-0001]

Privacy Act of 1974; System of Records

AGENCY: Department of the Air Force, DoD.

ACTION: Notice to Amend a System of Records.

SUMMARY: The Department of Air Force proposes to amend a system of records to its inventory of record systems subject to the Privacy Act of 1974 (5 U.S.C. 552a), as amended.

DATES: The changes will be effective on February 11, 2009 unless comments are received that would result in a contrary determination.

ADDRESSES: Send comments to the Air Force Privacy Act Officer, Office of Warfighting Integration and Chief Information Officer, SAF/XCPPI, 1800 Air Force Pentagon, Washington, DC 20330-1800. January 12, 2009

FOR FURTHER INFORMATION CONTACT: Mr. Kenneth Brodie at (703) 696-6488.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: January 6, 2009.
Morgan E. Frazier,
Alternate OSD Federal Register Liaison Officer, Department of Defense.

F036 AFPC Q

System Name:

Educational Delay Action Notification (June 11, 1997, 62 FR 31793).

Changes:

* * * * *

System Location:

Delete entry and replace with “Air Force Personnel Center, Chief, Line Officer Accessions Branch, (HQ AFPC/DPSIP), Randolph Air Force Base, TX 78150-4712.”

Categories of individuals covered by the system:

Delete entry and replace with “Air Force Reserve Officers' Training Corps Cadets and/or Air Force Reserve Officers' Training Corps graduates (officers); Air Force Institute of Technology, and Air Force Reserve Personnel Center. Does not apply to Air National Guard personnel.”

Categories of records in the system:

Delete entry and replace with “Applications from Air Force Reserve Officer Training Corps Cadets for delay in entering extended active duty status to pursue advanced degrees. Members remain in the Inactive Obligated Reserves until called to active duty.”

Authority for maintenance of the system:

Delete entry and replace with “10 U.S.C. 2108, Advanced standing; interruption of training; delay in starting obligated service; release from program; Department of Defense Directive (DoDD) 1215.8, Senior Reserve Officers Training Corps Programs; Air Force Policy Directive 36-29, Accession of Air Force Military Personnel as implemented by Air Force Instruction 36-2009, Delay in Active Duty for AFROTC Graduates and E.O. 9397 (SSN).”

Purpose(s):

Delete entry and replace with “Used to inform and explain procedures for delaying the entry to extended active duty of Air Force Reserve Officer Training Corps graduates commissioned as second lieutenants in the Inactive Obligated Air Force Reserves.”

Routine uses of records maintained in the system, including categories of users and the purposes of such uses:

Delete entry and replace with “Tracks cadet application for delays to Entry on Active Duty for the purpose of pursuing graduate or professional studies.

In addition to those disclosures generally permitted under 5 U.S.C. 552a (b) of the Privacy Act, these records or information contained therein may specifically be disclosed outside the DoD as a routine use pursuant to 5 U.S.C. 552a (b)(3) as follows:

The ‘Blanket Routine Uses’ published at the beginning of the Air Force's compilation of systems of records notices apply to this system.”

* * * * *

Storage:

Delete entry and replace with “Maintained in visible file binders/cabinets and electronic storage media.”

* * * * *

System manager(s) and address:

Delete entry and replace with “Chief, Air Force Personnel Center, Line Officer Accessions Branch, (HQ AFPC/DPSIP), 550 C Street West, Ste 10 Randolph Air Force Base, TX 78150-4712.”

Notification procedures:

Delete entry and replace with “Individuals seeking to determine whether information about themselves is contained in this system should address written inquiries to the Air Force Personnel Center, Line Officer Accessions Branch, (HQ AFPC/DPSIP), 550 C Street West Ste 10, Randolph Air Force Base, TX 78150-4712.

Inquiries should have complete name, address, telephone number and signature certified by a notary public.”

Records access procedures:

Delete entry and replace with “Individuals seeking to determine whether information about themselves is contained in this system should address written inquiries to the Air Force Personnel Center, Line Officer Accessions Branch, (HQ AFPC/DPSIP), 550 C Street West, Ste 10, Randolph Air Force Base, TX 78150-4712.

Inquiries should have complete name, address, telephone number and signature certified by a notary public.”

Contesting records procedures:

Delete entry and replace with “The Air Force rules for accessing records, and for contesting contents and appealing initial agency determinations are published in Air Force Instruction 33-332,Privacy Act Program; 32 CFR part 806b; or may be obtained from the system manager.”

* * * * *

F036 AFPC Q

System name:

Educational Delay Action Notification.

System location:

Air Force Personnel Center, Chief, Line Officer Accessions Branch, (HQ AFPC/DPSIP), Randolph Air Force Base, TX 78150-4712.

Categories of individuals covered by the system:

Air Force Reserve Officers' Training Corps Cadets and/or Air Force Reserve Officers' Training Corps graduates (officers); Air Force Institute of Technology, and Air Force Reserve Personnel Center. Does not apply to Air National Guard personnel.

Categories of records in the system:

Applications from Air Force Reserve Officer Training Corps Cadets for delay in entering extended active duty status to pursue advanced degrees. Members remain in the Inactive Obligated Reserves until called to active duty.

Authority for maintenance of the system:

10 U.S.C. 2108, Advanced standing; interruption of training; delay in starting obligated service; release from program; Department of Defense Directive (DoDD) 1215.8, Senior Reserve Officers Training Corps Programs; Air Force Policy Directive 36-29, Accession of Air Force Military Personnel as implemented by Air Force Instruction 36-2009, Delay in Active Duty for AFROTC Graduates and E.O 9397 (SSN).

Purpose(s):

Used to inform and explain procedures for delaying the entry to extended active duty of Air Force Reserve Officer Training Corps graduates commissioned as second lieutenants in the Inactive Obligated Air Force Reserves.

Routine uses of records maintained in the system, including categories of users and the purposes of such uses:

Tracks cadet application for delays to Entry on Active Duty (EAD) for the purpose of pursuing graduate or professional studies.

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices apply to this system.

Policies and practices for storing, retrieving, accessing, retaining, and disposing of records in the system:

Storage:

Maintained in visible file binders/cabinets and electronic storage media.

Retrievability:

Retrieved by name.

Safeguards:

Records are accessed by custodian of the record system and by persons responsible for servicing the record system in performance of their official duties who are properly screened and cleared for need-to-know. Records are stored in locked cabinets or rooms.

Retention and disposal:

Disapproved applications are destroyed after 6 months; approved applications are destroyed on completion of delay.

System manager(s) and address:

Chief, Air Force Personnel Center, Line Officer Accessions Branch, (HQ AFPC/DPSIP), 550 C Street West, Ste. 10 Randolph Air Force Base, TX 78150-4712.

Notification procedure:

Individuals seeking to determine whether information about themselves is contained in this system should address written inquiries to the Air Force Personnel Center, Line Officer Accessions Branch, (HQ AFPC/DPSIP), 550 C Street West Ste. 10, Randolph Air Force Base, TX 78150-4712.

Inquiries should have complete name, address, telephone number and signature certified by a notary public.

Record access procedures:

Individuals seeking to determine whether information about themselves is contained in this system should address written inquiries to the Air Force Personnel Center, Line Officer Accessions Branch, (HQ AFPC/DPSIP), 550 C Street West, Ste. 10, Randolph Air Force Base, TX 78150-4712.

Inquiries should have complete name, address, telephone number and signature certified by a notary public.

Contesting record procedures:

The Air Force rules for accessing records, and for contesting contents and appealing initial agency determinations are published in Air Force Instruction 33-332, Privacy Act Program; 32 CFR part 806b; or may be obtained from the system manager.

Record source categories:

Member's application.

Exemptions claimed for the system:

None.

[FR Doc. E9-235 Filed 1-9-09; 8:45 am]

BILLING CODE 5001-05-P